UNITED STATES INSTITUTE OF PEACE

Notice of Meeting

Agency: United States Institute of Peace.

Date/Time: Friday, October 18, 2019 (10:00 a.m.-12:30 p.m.).

Location: 2301 Constitution Avenue NW, Washington, DC 20037.

Status: Open Session—Portions may be closed pursuant to Subsection (c) of Section 552(b) of Title 5, United States Code, as provided in subsection 1706(h)(3) of the United States Institute of Peace Act, Public Law 98-525.

Agenda: October 19, 2019 Board Meeting: Chairman's Report; Vice Chairman's Report; President's Report; Approval of Minutes of the April 12, 2019 Board of Directors Meeting; Reports from USIP Building, Program, Audit & Finance and Security Committees; and Reports/Updates from the Front Lines: Afghanistan, Colombia/Venezuela, Ethiopia/Red Sea, and Nonviolent Action.

Contact: Nancy Lindborg, President: nlindborg@usip.org.

Dated: October 4, 2019.
Nancy Lindborg,
President.

[FR Doc. 2019-22196 Filed 10-9-19; 8:45 am]

BILLING CODE 6820-AR-P